DEPARTMENT OF HOMELAND SECURITY

Office of the Secretary, Office of Policy, Private Sector Office, DHS; Welcome to the United States Survey

AGENCY: Office of Policy, Private Sector Office, DHS.

ACTION: 60-Day Notice and request for comments; Reinstatement without change of a previously approved information collection OMB Control Number 1601-0003.

SUMMARY: The Department of Homeland Security, Office of the Secretary, Office of Policy, Private Sector Office will submit this reinstatement without change for the following information collection request (ICR) to the Office of Management and Budget (OMB) for review and clearance in accordance with the Paperwork Reduction Act of 1995 (Pub. L. 104-13, 44 U.S.C. Chapter 35). The Private Sector Office is soliciting comments concerning the reinstatement without change to a previously approved information collection, Welcome to the United States Survey.

DATES: Comments are encouraged and will be accepted until March 31, 2008. This process is conducted in accordance with 5 CFR 1320.1.

ADDRESSES: Written comments and/or suggestions regarding the item(s) contained in this notice, especially regarding the estimated public burden and associated response time, should be directed to the Department of Homeland Security (DHS), Office of the Secretary, Office of Policy, Plans and International Affairs, Attn: Jenny Randall, Room 10360A, Washington, DC 20528. Comments may also be submitted via e-mail at Jenny.R.Randall@HQ.DHS.GOV.

FOR FURTHER INFORMATION CONTACT: If additional information is required contact: The Department of Homeland Security (DHS), Private Sector Office, Jenny Randall (202) 282-9801, this is not a toll free number.

SUPPLEMENTARY INFORMATION: The Department of Homeland Security (DHS), Office of the Secretary, Office of Policy, Private Sector Office, in conjunction with Customs and Border Protection (CBP) and Research Triangle Institute, International, will interview foreign visitors entering the United States at four southern border ports of entry, three northern border ports of entry and four airport ports of entry. This survey will measure how CBP is serving the American public with vigilance and integrity, while providing courteous and helpful treatment to visitors, immigrants and travelers. Additionally, this survey will further the Rice-Chertoff Initiative as has been announced by evaluating the two model airports (Dulles International Airport, Chantilly, VA, and Houston International Airport, Houston, TX) for baseline information as well as how welcomed foreign visitors feel upon entering the United States and interacting with a DHS Customs and Border Protection officer.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, Office of the Secretary, Office of Policy, Private Sector Office.

Title: Welcome to the United States Survey.

OMB Number: 1601-0003.

Frequency: One-time collection.

Affected Public: Foreign visitors into the United States.

Number of Respondents: 939 respondents.

Estimated Time per Respondent: 5 minutes per response.

Total Burden Hours: 78.25 annual burden hours.

Total Burden Cost (capital/startup): None.

Total Burden Cost (operating/maintaining): None.

Scott Charbo,
Chief Information Officer.

[FR Doc. E8-1808 Filed 1-30-08; 8:45 am]

BILLING CODE 4410-10-P